DEPARTMENT OF THE TREASURY

Internal Revenue Service

26 CFR Part 301

[TD 9543]

RIN 1545-BA99

Timely Mailing Treated as Timely Filing

AGENCY: Internal Revenue Service (IRS), Treasury.

ACTION: Correction to final regulations.

SUMMARY: This document contains corrections to final regulations that were published in the Federal Register on Tuesday, August 23, 2011, the regulations provide that the proper use of registered or certified mail, or a service of a private delivery service designated under criteria established by the Internal Revenue Service, will constitute prima facie evidence of delivery. The regulations affect taxpayers who mail Federal tax documents to the Internal Revenue service or the United States Tax Court.

DATES: This correction is effective on October 11, 2011 and applies to any payment or document mailed and delivered in accordance with the requirements of § 301.7502-1 in an envelope bearing a postmark dated after September 21, 2004.

FOR FURTHER INFORMATION CONTACT: Steven Karon, (202) 622-4570 (not a toll-free number).

SUPPLEMENTARY INFORMATION:

Background

The final regulations (TD 9543) that is the subject of this correction is under sections 301 and 602 of the Internal Revenue Code.

Need for Correction

As published on August 23, 2011 (76 FR 52561), the final regulations (TD 9543) contains errors that may prove to be misleading and is in need of clarification.

Correction of Publication

Accordingly, the final regulations (TD 9543), that were the subject of FR Doc. 2011-21416, are corrected as follows:

1. On page 52561, column 1, in the regulation heading, the CFR Title and part Number, line 3, the phrase “26 CFR part 301” is corrected to read “26 CFR parts 301 and 602”.

2. On page 52561, column 2, in the preamble, under the caption “FOR FURTHER INFORMATION CONTACT”, line 1, the phrase “(202) 622- 4570” is corrected to read “(202) 622-4570”.

3. On page 52562, column 3, in the preamble under the caption “Special Analyses”, lines 6 and 7 from the bottom of the second paragraph, the phrase “$2.80 and registered mail can be used for as little as $10.60” is corrected to read “$2.85 and registered mail can be used for as little as $10.75.”

4. On page 52562, column 3, in the preamble, the caption “List of Subjects in 26 CFR part 301” is corrected to read as follows:

List of Subjects

26 CFR Part 301

Employment taxes, Estate taxes, Gift taxes, Income taxes, Penalties, Reporting and recordkeeping requirements.

26 CFR Part 602

Reporting and recordkeeping requirements.

5. On page 52562, column 3, in the preamble under the caption “Adoption of Amendments to the Regulations”, line 1, the phrase “Accordingly, 26 CFR part 301 is amended as follows:” is corrected to read “Accordingly, 26 CFR parts 301 and 602 are amended as follows:”.

Diane O. Williams,
Federal Register Liaison, Publications and Regulations Branch, Legal Processing Division, Associate Chief Counsel, (Procedure and Administration).

[FR Doc. 2011-26187 Filed 10-7-11; 8:45 am]

BILLING CODE 4830-01-P